DEPARTMENT OF HOMELAND SECURITY

Federal Emergency Management Agency

44 CFR Part 67

[Docket No. FEMA-D-7630]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground *Elevation in feet (NGVD) •Elevation in feet (NAVD): Existing | #Depth in feet above ground *Elevation in feet (NGVD) •Elevation in feet (NAVD): Modified | Communities affected
NORTH CAROLINA
Caswell County
Benton Branch | At the confluence with Stony Creek | None | •603 | Caswell County (Unincorporated Areas).
| Approximately 0.5 mile upstream of Senior Allred Road | None | •680
Benton Branch | At the confluence with Benton Branch | None | •619 | Caswell County (Unincorporated Areas).
Tributary 1 | Approximately 1.7 miles upstream of the confluence with Benton Branch | None | •707
Benton Branch | At the confluence with Benton Branch | None | •634 | Caswell County (Unincorporated Areas).
Tributary 2 | Approximately 1.0 mile upstream of Simmons Road | None | •725
Grays Branch | At the confluence with Stony Creek | None | •618 | Caswell County (Unincorporated Areas).
| Approximately 1.5 miles upstream of Shaw Road | None | •738
Grays Branch Tributary 1 | At the confluence with Grays Branch | None | •623 | Caswell County (Unincorporated Areas).
| Approximately 2.1 miles upstream of the confluence with Grays Branch | None | •724
Grays Branch Tributary 2 | At the confluence with Grays Branch | None | •641 | Caswell County (Unincorporated Areas).
| Approximately 2.9 miles upstream of Underwood Road | None | •754
Hughes Mill Creek | Approximately 0.5 mile upstream of the confluence with Jordan Creek | None | •610 | Caswell County (Unincorporated Areas).
| Approximately 1.2 miles upstream of North Carolina Highway 62 | None | •657
Stony Creek | Approximately 0.3 mile downstream of the Caswell/Alamance County boundary | None | •595 | Caswell County (Unincorporated Areas).
| Approximately 2.4 miles upstream of Moore Road | None | •712
Toms Creek | At the Caswell/Alamance County boundary | None | •596 | Caswell County (Unincorporated Areas).
| Approximately 0.6 mile upstream of Kerr's Chapel Road | None | •637
Caswell County (Unincorporated Areas)
Maps available for inspection at the Caswell County Planning Department, 144 Courthouse Square, Yancyville, North Carolina.
Send comments to Mr. Nathaniel Hall, Chairman of the Caswell County Commissioners, P.O. Box 98, Yancyville, North Carolina 27379.
NORTH CAROLINA
Chatham County
B. Everett Jordan Lake | For its entire shoreline | None | •238 | Chatham County (Unincorporated Areas).
Bear Creek | At the confluence with Rocky River | None | •292 | Chatham County (Unincorporated Areas).
| Approximately 0.6 mile upstream of Edwards Hill Church Road | None | •456
Bear Creek (into Indian Creek) | At the confluence of Indian Creek (into Deep River) | None | •242 | Chatham County (Unincorporated Areas).
| Approximately 400 feet upstream of Bonlee Carbonton Road | None | •391
Beaver Creek | At the Chatham and Wake County boundary | None | •238 | Chatham County (Unincorporated Areas).
| At the confluence with B. Everett Jordan Lake | None | •238
Beaver Creek Tributary 1 | At the confluence with Beaver Creek and B. Everett Jordan Lake | None | •238 | Chatham County (Unincorporated Areas).
| Approximately 1.3 miles upstream of Tody Goodwin Road | None | •275
Beaver Creek Tributary 2 | At the confluence with Beaver Creek and B. Everett Jordan Lake | None | •238 | Chatham County (Unincorporated Areas).
| Approximately 1.1 miles upstream of Tody Goodwin Road | None | •251
Beaver Creek Tributary 3 | At the confluence with Beaver Creek and B. Everett Jordan Lake | None | •238 | Chatham County (Unincorporated Areas).
| Approximately 0.6 mile upstream of the confluence with Beaver Creek and B. Everett Jordan Lake | None | •263
Blood Run Creek | At Chatham and Randolph County boundary | None | •495 | Chatham County (Unincorporated Areas).
| Approximately 0.3 mile upstream of U.S. 64 | None | •594
Brooks Creek | At the confluence with the Haw River | None | •316 | Chatham County (Unincorporated Areas).
| Approximately 2.2 miles upstream of the confluence with Haw River | None | •383 |
Brush Creek | At the Chatham and Randolph County boundary | None | •499 | Chatham County (Unincorporated Areas).
| At the Chatham and Randolph County boundary | None | •552 |
Buckhorn Creek | At the confluence with Cape Fear River | None | •155 | Chatham County (Unincorporated Areas).
| At the Harris Reservoir Dam | None | •177 |
Buckhorn Creek Tributary 1 | At the confluence with Buckhorn Creek | None | •168 | Chatham County (Unincorporated Areas).
| Approximately 0.6 mile upstream of the confluence with Buckhorn Creek | None | •237 |
Buckhorn Creek Tributary 2 | At the confluence with Buckhorn Creek | None | •175 | Chatham County (Unincorporated Areas).
| Approximately 0.7 mile upstream of the confluence with Buckhorn Creek | None | •222 |
Buckhorn Creek Tributary 3 | At the confluence with Buckhorn Creek | None | •177 | Chatham County (Unincorporated Areas).
| Approximately 0.1 mile upstream of the Railroad | None | •191 |
Buckhorn Creek Tributary 4 | At the confluence with Harris Reservoir | None | •232 | Chatham County (Unincorporated Areas).
| Approximately 0.4 mile upstream of the confluence with the Harris Reservoir | None | •282 |
Bush Creek | At the confluence with B. Everett Jordan Lake | None | •238 | Chatham County (Unincorporated Areas).
| Approximately 1.4 miles upstream of Big Woods Road | None | •253 |
Cape Fear River | At the Chatham and Harnett County boundary | None | •152 | Chatham County (Unincorporated Areas).
| At the confluence with Deep River and Haw River | None | •177 |
Cedar Creek | At the confluence with Deep River | None | •233 | Chatham County (Unincorporated Areas).
| Approximately 1.2 miles upstream of Henry Oldham Road | None | •248 |
Cedar Creek Tributary 1 | At the confluence with Cedar Creek | None | •233 | Chatham County (Unincorporated Areas).
| Approximately 1.4 miles upstream of Henry Oldham Road | None | •252 |
Cedar Creek Tributary 2 | At the confluence with Cedar Creek Tributary 1 | None | •236 | Chatham County (Unincorporated Areas).
| Approximately 0.4 mile upstream of Unnamed Road | None | •259 |
Collins Creek | At the confluence with the Haw River | None | •402 | Chatham County (Unincorporated Areas).
| Approximately 0.45 mile upstream of the confluence of Persimmons Nursery Branch at the Chatham and Orange County boundary | None | •451 |
Crooked Creek | At the Chatham and Durham County boundary | None | •238 | Chatham County (Unincorporated Areas).
| At the confluence with B. Everett Jordan Lake | None | •238 |
Crows Creek | At the confluence with Terrells Creek | None | •369 | Chatham County (Unincorporated Areas).
| Approximately 550 feet upstream of Eagle Point Road or Unnamed Road | None | •406 |
Cub Creek | At the confluence with B. Everett Jordan Lake | None | •238 | Chatham County (Unincorporated Areas).
| Approximately 1.0 mile upstream of Nature Trail Road | None | •271 |
Deep River | At the confluence with Cape Fear River | None | •177 | Chatham County (Unincorporated Areas).
| At the Chatham, Moore, and Lee County boundaries | None | •250 |
Deep River Tributary 5 | At the confluence with Deep River | None | •240 | Chatham County (Unincorporated Areas).
| Approximately 2,200 feet upstream of Alton King Road | None | •274 |
Deep River Tributary 6 | At the confluence with Deep River Tributary 5 | None | •240 | Chatham County (Unincorporated Areas).
| Approximately 0.7 mile upstream of Alton King Road | None | •252 |
Deep River Tributary 7 | At the confluence with Deep River | None | •240 | Chatham County (Unincorporated Areas).
| Approximately 1.6 miles upstream of Alton King Road | None | •300 |
Deep River Tributary 8 | At the confluence with Deep River | None | •240 | Chatham County (Unincorporated Areas).
| Approximately 0.5 mile upstream of Alton King Road | None | •245 |
Dry Creek | At the confluence with Haw River | None | •337 | Chatham County (Unincorporated Areas).
| Approximately 2.9 miles upstream of Silk Hope Gum Springs Road | None | •532 |
East Price Creek | At the Chatham and Orange County boundary | None | •402 | Chatham County (Unincorporated Areas).
| Approximately 0.6 mile upstream of the boundary | None | •426 |
Folkner Branch | At the confluence with B. Everett Jordan Lake | None | •238 | Chatham County (Unincorporated Areas).
| Approximately 500 feet upstream of Farrells Creek Road | None | •256
Georges Creek | At the confluence with Deep River | None | •225 | Chatham County (Unincorporated Areas).
| Approximately 2.5 miles upstream of Rosser Road | None | •260
Georges Creek Tributary 1 | At the confluence with Georges Creek | None | •225 | Chatham County (Unincorporated Areas).
| Approximately 0.8 mile upstream of the confluence with Georges Creek | None | •244
Georges Creek Tributary 2 | At the confluence with Georges Creek | None | •225 | Chatham County (Unincorporated Areas).
| Approximately 1.1 miles upstream of the confluence with Georges Creek | None | •237
Greenbriar Creek | At the confluence with Rocky River | None | •586 | Chatham County (Unincorporated Areas).
| At the Alamance and Chatham County boundary | None | •632
Gulf Creek | At the confluence with Cape Fear River | None | •172 | Chatham County (Unincorporated Areas).
| Approximately 1.7 miles upstream of Unnamed Road | None | •191
Harlands Creek | At the confluence with Rocky River | None | •331 | Chatham County (Unincorporated Areas).
| Approximately 800 feet upstream of U.S. 64 | None | •428
Harris Reservoir | Approximately 0.3 mile upstream of the Chatham and Wake County boundary | None | •252 | Chatham County (Unincorporated Areas).
| At the Chatham and Wake County boundary | None | •252
Harts Creek | At the confluence with Bear Creek | None | •357 | Chatham County (Unincorporated Areas).
| Approximately 1.6 miles upstream of the confluence with Bear Creek | None | •403
Haw River | At the confluence with Deep River and Cape Fear River | None | •177 | Chatham County (Unincorporated Areas).
| Approximately 0.74 mile upstream of the confluence of Terrells Creek (West) and the Alamance and Chatham County boundary | None | •400
Herndon Creek | At the confluence with Bush Creek | None | •238 | Chatham County (Unincorporated Areas).
| Approximately 0.8 mile upstream of Jack Bennett Road | None | •251
Hill Creek | At the confluence with Robeson Creek | None | •369 | Chatham County (Unincorporated Areas).
| Approximately 300 feet upstream of X-Campbell Road | None | •511
Indian Creek (into Deep River) | At the confluence of Deep River | •250 | •240 | Chatham County (Unincorporated Areas).
| Approximately 0.2 mile upstream of Goldston Glendon Road | None | •336
Indian Creek (into Jordan Lake) | Approximately 1.1 miles upstream of State Highway 751 | None | •238 | Chatham County (Unincorporated Areas).
| At the confluence with B. Everett Jordan Lake | None | •238
Kit Creek | At the confluence with Northeast Creek | None | •238 | Chatham County (Unincorporated Areas).
| At Chatham and Wake County boundary | None | •243
Lacy Creek | At the confluence with Rocky River | None | •539 | Chatham County (Unincorporated Areas).
| Approximately 0.7 mile upstream of confluence with Rocky River | None | •565
Landrum Creek | At the confluence with Rocky River | None | •337 | Chatham County (Unincorporated Areas).
| Approximately 500 feet upstream of Pleasant Hill Church Road | None | •500
Landrum Creek Tributary | At the confluence with Landrum Creek | None | •456 | Chatham County (Unincorporated Areas).
| Approximately 0.9 mile upstream of Jay Shambley Road | None | •468
Lick Branch | Approximately 1,200 feet upstream of State Highway 751 | None | •238 | Chatham County (Unincorporated Areas).
| At the confluence with B. Everett Jordan Lake | None | •238
Lick Creek | At the confluence with Terrells Creek (West) | None | •424 | Chatham County (Unincorporated Areas).
| Approximately 2.4 miles upstream of the confluence with Terrells Creek (West) | None | •473
Line Creek | At the confluence with Deep River | None | •250 | Chatham County (Unincorporated Areas).
| Approximately 1.0 mile upstream of Goldston Carbanton Road | None | •271
Little Beaver Creek | Approximately 1.0 mile upstream of the confluence with B. Everett Jordan Lake | None | •238 | Chatham County (Unincorporated Areas).
| At the confluence with B. Everett Jordan Lake | None | •238
Little Beaver Creek Tributary | Approximately 0.7 mile upstream of the confluence with Little Beaver Creek | None | •238 | Chatham County (Unincorporated Areas).
| At the confluence with Little Beaver Creek | None | •238
Little Brush Creek | At the Chatham and Randolph County boundary | None | •453 | Chatham County (Unincorporated Areas).
| Approximately 1.6 miles upstream of Jim Paige Road | None | •543 |
Little Indian Creek | At the confluence with Indian Creek (into Deep River) | None | •240 | Chatham County (Unincorporated Areas).
| Approximately 400 feet upstream of Goldston Glendon Road | None | •378 |
Long Branch | At the confluence with Dry Creek | None | •448 | Chatham County (Unincorporated Areas).
| Approximately 1.5 miles upstream of State Route 87 | None | •497 |
Loves Creek | At the confluence with Rocky River | •504 | •501 | Chatham County (Unincorporated Areas).
| Approximately 0.1 mile upstream of Pine Forest South Drive | None | •605 |
Loves Creek Tributary 1 | At the confluence with Loves Creek | None | •557 | Chatham County
| Approximately 400 feet upstream of U.S. 64 | None | •620 | (Unincorporated Areas).
Loves Creek Tributary 2 | At the confluence with Loves Creek Tributary 1 | None | •585 | Chatham County (Unincorporated Areas).
| Approximately 0.6 mile upstream of West Dolphin Street | None | •666 |
Loves Creek Tributary 3 | At the confluence with Loves Creek Tributary 1 | None | •592 | Chatham County (Unincorporated Areas).
| Approximately 400 feet upstream of Garden Avenue | None | •648 |
Meadow Branch | At the confluence with Terrells Creek | None | •381 | Chatham County.
| Approximately 350 feet upstream of Jones Ferry Road | None | •389 | (Unincorporated Areas).
Meadow Creek | At the confluence with Rocky River | None | •437 | Chatham County.
| Approximately 1.3 miles upstream of Rives Chapel Church Road | None | •389 | (Unincorporated Areas).
Mill Branch | At the confluence with B. Everett Jordan Lake | None | •238 | Chatham County (Unincorporated Areas).
| Approximately 1.0 mile upstream of the confluence with B. Everett Jordan Lake | None | •244 |
Morgan Creek | At the Chatham and Durham County boundary | None | •238 | Chatham County (Unincorporated Areas).
| At the confluence with B. Everett Jordan Lake | None | •238 |
Morris Branch | At the confluence with Panther Creek | None | •238 | Chatham County
| Approximately 0.7 mile upstream of the confluence with Panther Creek | None | •249 | (Unincorporated Areas).
Mud Lick Creek | At the confluence with Rocky River | None | •544 | Chatham County (Unincorporated Areas).
| Approximately 0.6 mile upstream of Silk Hope Liberty Road | None | •597 |
Nancy Branch | At the confluence with Panther Creek | None | •236 | Chatham County (Unincorporated Areas).
| Approximately 0.4 mile upstream of the confluence with Panther Creek | None | •239 |
New Hope River Tributary 1 | At the confluence with B. Everett Jordan Lake | None | •238 | Chatham County (Unincorporated Areas).
| Approximately 0.3 mile upstream of B. Everett Jordan Lake | None | •247 |
North Prong Rocky River | At the confluence with Rocky Road | None | •587 | Chatham County (Unincorporated Areas).
| At the Alamance and Chatham County boundary | None | •648 |
Northeast Creek | At the confluence with B. Everett Jordan Lake | None | •238 | Chatham County (Unincorporated Areas).
| At the Chatham and Durham County boundary | None | •240 |
Overcup Creek | At the confluence with B. Everett Jordan Lake | None | •238 | Chatham County (Unincorporated Areas).
| Approximately 1.1 miles upstream of B. Everett Jordan Lake | None | •253 |
Overcup Creek Tributary | At the confluence with Overcup Creek | None | •238 | Chatham County (Unincorporated Areas).
| Approximately 1.0 mile upstream of Overcup Creek | None | •245 |
Panther Creek | At the confluence with Northeast Creek | None | •238 | Chatham County (Unincorporated Areas).
| Approximately 0.6 mile upstream of the confluence of Morris Branch | None | •245 |
Parkers Creek | At the confluence with B. Everett Jordan Lake | None | •238 | Chatham County (Unincorporated Areas).
| Approximately 0.4 mile upstream of Big Woods Road | None | •287 |
Persimmons Nursery Branch | At the confluence with Collins Creek | None | •448 | Chatham County (Unincorporated Areas).
| Approximately 550 feet upstream of Collins Mountain Road | None | •450 |
Pokeberry Creek | At the confluence with Haw River | None | •297 | Chatham County (Unincorporated Areas).
| Approximately 3.5 miles upstream of Andrews Store Road | None | •558 |
Reedy Fork | At the Chatham and Randolph County boundary | None | •499 | Chatham County (Unincorporated Areas).
| Approximately 0.4 mile upstream of Wrenn Smith Road | None | •527 |
Robeson Creek | At the confluence with the Haw River and B. Everett Jordan Lake | None | •238 | Chatham County (Unincorporated Areas).
| Approximately 0.3 mile upstream of the Power Line Easement | None | •481 |
Robeson Creek Tributary 1 | At the confluence with Robeson Creek | None | •297 | Chatham County (Unincorporated Areas).
| Approximately 0.3 mile upstream of Prince Creek Road | None | •486 |
Robeson Creek Tributary 2 | At the confluence with Robeson Creek Tributary 1 | None | •349 | Chatham County (Unincorporated Areas).
| Approximately 475 feet upstream of Tom Womble Road | None | •502 |
Robeson Creek Tributary 3 | At the confluence with Robeson Creek | None | •352 | Chatham County (Unincorporated Areas).
| Approximately 0.3 mile upstream of Oakwood Street | None | •419 |
Robeson Creek Tributary 4 | At the confluence with Robeson Creek | None | •377 | Chatham County (Unincorporated Areas).
| Approximately 320 feet upsteam of State Route 87 | None | •497 |
Robeson Creek Tributary 5 | At the confluence with Robeson Creek Tributary 4 | None | •391 | Chatham County (Unincorporated Areas).
| Approximately 1.0 mile upstream of Arthur Alston Road | None | •471 |
Rocky Branch (into Deep River) | At the confluence with Deep River | None | •204 | Chatham County (Unincorporated Areas).
| Approximately 0.5 mile upstream of the confluence with Deep River | None | •222 |
Rocky Branch (into Georges Creek) | At the confluence with Georges Creek | None | •232 | Chatham County (Unincorporated Areas).
| Approximately 0.6 mile upstream of Rosser Road | None | •256 |
Rocky Ford Branch | At the confluence with White Oak Branch | None | •238 | Chatham County (Unincorporated Areas).
| Approximately 0.7 mile upstream of Luther Road | None | •244 |
Rocky River | At the confluence with Deep River | None | •209 | Chatham County (Unincorporated Areas).
| At the Chatham and Randolph County boundary | None | •643 |
Rocky River Tributary 1 | At the confluence with Rocky River | None | •507 | Chatham County (Unincorporated Areas).
| Approximately 1.0 mile upstream of Siler City Snow Camp Road | None | •630 |
Sandy Branch | At the confluence with Bear Creek | None | •410 | Chatham County (Unincorporated Areas).
| Approximately 200 feet upstream of State Route 902 | None | •425 |
Shaddox Creek | At the confluence with Haw River | None | •177 | Chatham County (Unincorporated Areas).
| Approximately 2.5 miles upstream of U.S. Route 1 | None | •214 |
South Fork | At the Alamance and Chatham County boundary | None | •525 | Chatham County (Unincorporated Areas).
| Approximately 0.5 mile upstream of Moon Lindley Road | None | •550 |
Stinking Creek | At the confluence with B. Everett Jordan Lake | None | •238 | Chatham County (Unincorporated Areas).
| Approximately 450 feet upstream of Talon Drive | None | •279 |
Terrells Creek | At the confluence with Haw River | None | •369 | Chatham County (Unincorporated Areas).
| At the Chatham and Orange County boundary | None | •420 |
Terrells Creek (West) | At the confluence with Haw River | None | •397 | Chatham County (Unincorporated Areas).
| Approximately 1.5 miles upstream of Woody Store Road | None | •530 |
Tick Creek | At the confluence with Rocky River | None | •407 | Chatham County (Unincorporated Areas).
| Approximately 300 feet upstream of Petty Road | None | •555 |
Tick Creek Tributary | At the confluence with Tick Creek | None | •468 | Chatham County (Unincorporated Areas).
| Approximately 0.5 mile upstream of the confluence with Tick Creek | None | •480 |
Tributary A | At the confluence with Indian Creek (into Deep River) | None | •240 | Chatham County (Unincorporated Areas).
| Approximately 350 feet upstream of Little Indian Creek Road | None | •258 |
Turkey Creek | At the confluence with Robeson Creek | None | •324 | Chatham County (Unincorporated Areas).
| Approximately 0.3 mile upstream of Unnamed Road | None | •452 |
Tysons Creek | At the Chatham and Moore County boundary | None | •322 | Chatham County (Unincorporated Areas).
| Approximately 0.4 mile upstream of Mert McManess Road | None | •414 |
Varnell Creek | At the confluence with Rocky River | None | •485 | Chatham County (Unincorporated Areas).
| Approximately 2.3 miles upstream of U.S. 64 | None | •528 |
Weaver Creek | At the confluence with B. Everett Jordan Lake | None | •238 | Chatham County (Unincorporated Areas).
| Approximately 2.1 miles upstream of B. Everett Jordan Lake | None | •297 |
Weaver Creek Tributary | At the confluence with Weaver Creek | None | •238 | Chatham County (Unincorporated Areas).
| Approximately 1.3 miles upstream of the confluence with Weaver Creek | None | •245 |
Welch Creek | At the confluence with Tick Creek | None | •466 | Chatham County (Unincorporated Areas).
| Approximately 0.6 mile upstream of the confluence with Tick Creek | None | •478 |
White Oak Creek | At the Chatham and Wake County boundary | None | •238 | Chatham County (Unincorporated Areas).
| At the confluence with B. Everett Jordan Lake | None | •238 |
White Oak Creek Tributary 1 | At the confluence with White Oak Creek and B. Everett Jordan Lake | None | •238 | Chatham County (Unincorporated Areas).
| Approximately 0.9 mile upstream of the confluence with White Oak Creek and B. Everett Jordan Lake | None | •253 |
Wilkinson Creek | At the confluence with the Haw River | None | •330 | Chatham County (Unincorporated Areas).
| Approximately 1.1 miles upstream of Gilmore Road | None | •575 |
Windfall Creek | At the confluence with B. Everett Jordan Lake | None | •238 | Chatham County (Unincorporated Areas).
| Approximately 0.3 mile upstream of the confluence with B. Everett Jordan Lake | None | •248
Town of Pittsboro
Maps available for inspection at the Pittsboro Planning Office, Town Hall, 635 East Street, Pittsboro, North Carolina.
Send comments to The Honorable Nancy May, Mayor of the Town of Pittsboro, P.O. Box 759, Pittsboro, North Carolina 27312.
Town of Siler City
Maps available for inspection at the Siler City Zoning Office, Town Hall, 311 North Second Avenue, Siler City, North Carolina.
Send comments to The Honorable Charles Turner, Mayor of the Town of Siler City, P.O. Box 769, Siler City, North Carolina 27344.
Chatham County (Unincorporated Areas)
Maps available for inspection at the Chatham County Planning Department, 80-A East Street, Pittsboro, North Carolina.
Send comments to Mr. Charlie Horne, Chatham County Manager, P.O. Box 87, Pittsboro, North Carolina 27312.
NORTH CAROLINA
Forsyth County
Haw River | At the upstream side of Stigall Road | None | •860 | Forsyth County (Unincorporated Areas).
| Approximately 0.8 mile upstream of Stigall Road | None | •883 |
Reedy Fork | At the Forsyth/Guilford County boundary | None | •878 | Forsyth County (Unincorporated Areas), Town of Kernersville.
| Approximately 0.6 mile upstream of the Forsyth/Guilford County boundary | None | •892 |
West Fork Deep River | Approximately 0.7 mile upstream of Interstate 40 | None | •890 | Forsyth County (Unincorporated Areas), Town of Kernersville.
| Approximately 240 feet downstream of Industrial Park Drive | None | •903 |
Forsyth County (Unincorporated Areas)
Maps available for inspection at the Forsyth County Planning Department, 100 East 1st Street, Winston-Salem, North Carolina.
Send comments to Mr. Graham Pervier, Forsyth County Manager, 201 North Chestnut Street, Winston-Salem, North Carolina 27101.
NORTH CAROLINA
Randolph County
Bachelor Creek | At the confluence with Richland Creek | None | •455 | Randolph County (Unincorporated Areas).
| Approximately 0.5 mile upstream of the confluence of Bachelor Creek Tributary 5 | None | •653 |
Bachelor Creek Tributary 1 | At the confluence with Bachelor Creek | None | •472 | Randolph County (Unincorporated Areas).
| Approximately 480 feet upstream of Osborn Mill Road | None | •513 |
Bachelor Creek Tributary 2 | At the confluence with Bachelor Creek | None | •506 | Randolph County (Unincorporated Areas).
| Approximately 0.7 mile upstream of the confluence with Bachelor Creek | None | •525 |
Bachelor Creek Tributary 3 | At the confluence with Bachelor Creek | None | •515 | Randolph County (Unincorporated Areas).
| Approximately 0.8 mile upstream of Bachelor Creek Road | None | •615 |
Bachelor Creek Tributary 4 | At the confluence with Bachelor Creek | None | •620 | Randolph County (Unincorporated Areas).
| Approximately 0.4 mile upstream of the confluence with Bachelor Creek | None | •637 |
Bachelor Creek Tributary 5 | At the confluence with Bachelor Creek | None | •637 | Randolph County (Unincorporated Areas).
| Approximately 0.5 mile upstream of the confluence with Bachelor Creek | None | •656 |
Blood Run Creek | At the Randolph/Chatham County boundary | None | •495 | Randolph County (Unincorporated Areas).
| At the confluence with Brush Creek | None | •495
Boodom Creek | At the confluence with Sandy Creek | None | •565 | Randolph County (Unincorporated Areas).
| Approximately 0.6 mile upstream of Unnamed Road | None | •690
Boodom Creek Tributary 1 | At the confluence with Boodom Creek | None | •565 | Randolph County (Unincorporated Areas).
| Approximately 2.1 miles upstream of the confluence with Boodom Creek | None | •734
Boodom Creek Tributary 2 | At the confluence with Boodom Creek | None | •582 | Randolph County (Unincorporated Areas).
| Approximately 480 feet upstream of Troy Estate Road | None | •727
Brush Creek | At the confluence with Deep River | None | •363 | Randolph County (Unincorporated Areas).
| Approximately 200 feet upstream of Langley Road | None | •612
Brush Creek Tributary 1 | At the confluence with Brush Creek | None | •568 | Randolph County (Unincorporated Areas).
| Approximately 630 feet upstream of Browns Crossroads Road | None | •597
Bush Creek | At the confluence with Deep River | None | •491 | Randolph County (Unincorporated Areas).
| Approximately 0.4 mile upstream of Old Liberty Road | None | •708
Bush Creek Tributary | At the confluence with Bush Creek | None | •572 | Randolph County (Unincorporated Areas).
| Approximately 0.7 mile upstream of Whites Memorial Drive | None | •625
Deep River | At the Randolph/Moore County boundary | None | •354 | Randolph County boundary (Unincorporated Areas).
| At the Randolph/Guilford County boundary | None | •672
Deep River Tributary 15 | At the confluence with Deep River | None | •446 | Randolph County (Unincorporated Areas).
| Approximately 1,160 feet upstream of U.S. Highway 64 | None | •549
Deep River Tributary 16 | At the confluence with Deep River | None | •450 | Randolph County (Unincorporated Areas).
| Approximately 1.8 miles upstream of NC 22 | None | •520
Deep River Tributary 17 | At the confluence with Deep River | None | •459 | Randolph County (Unincorporated Areas).
| Approximately 0.9 mile upstream of U.S. Highway 64 | None | •529
Deep River Tributary 18 | At the confluence with Deep River | None | •467 | Randolph County (Unincorporated Areas).
| Approximately 0.5 mile upstream of Depot Street | None | •600
Deep River Tributary 19 | At the confluence with Deep River Tributary 18 | None | •478 | Randolph County (Unincorporated Areas).
| Approximately 1,850 feet upstream of Clark Avenue | None | •562
Deep River Tributary 20 | At the confluence with Deep River | None | •600 | Randolph County (Unincorporated Areas).
| Approximately 1,320 feet upstream of Worthville Street | None | •675
Deep River Tributary 21 | At the confluence with Deep River | None | •604 | Randolph County (Unincorporated Areas).
| Approximately 0.4 mile upstream of Sunset Drive | None | •687
Deep River Tributary 22 | At the confluence with Deep River Tributary 21 | None | •634 | Randolph County (Unincorporated Areas).
| Approximately 0.7 mile upstream of Bowman Avenue | None | •698
Deep River Tributary 23 | At the confluence with Deep River Tributary 22 | None | •661 | Randolph County (Unincorporated Areas).
| Approximately 800 feet upstream of Brookwood Acres Drive | None | •736
Deep River Tributary 24 | At the confluence with Deep River | None | •623 | Randolph County (Unincorporated Areas).
| Approximately 0.9 mile upstream of Business 220 | None | •724
Deep River Tributary 26 | At the confluence with Deep River | None | •664 | Randolph County (Unincorporated Areas).
| At the Randolph/Guilford County boundary | None | •704
Dodsons Lake | At the confluence with Sandy Creek | None | •583 | Randolph County (Unincorporated Areas).
| Approximately 0.4 mile upstream of Julian Airport Road | None | •642
Dodsons Lake 2 | At the confluence with Dodsons Lake | None | •613 | Randolph County (Unincorporated Areas).
| Approximately 0.3 mile upstream of the confluence with Dodsons Lake | None | •626
Dodsons Lake Tributary 1 | At the confluence with Dodsons Lake | None | •608 | Randolph County (Unincorporated Areas).
| Approximately 420 feet upstream of Upper Three Lakes Dam | None | •655
Fork Creek | At the confluence with Deep River | None | •354 | Randolph County (Unincorporated Areas).
| Approximately 2.3 miles upstream of the confluence with Fork Creek Tributary 1 | None | •642
Fork Creek Tributary 1 | At the confluence with Fork Creek | None | •507 | Randolph County (Unincorporated Areas).
| Approximately 600 feet upstream of Seagrove Plank Road | None | •734
Fork Creek Tributary 2 | At the confluence with Fork Creek Tributary 1 | None | • 516 | Randolph County (Unincorporated Areas).
| Approximately 2.0 miles upstream of Angel Fire Trail | None | • 645
Fork Creek Tributary 3 | At the confluence with Fork Creek Tributary 1 | None | • 555 | Randolph County (Unincorporated Areas).
| Approximately 1.6 miles upstream of the confluence with Fork Creek Tributary 1 | None | • 622
Gabriels Creek | At the confluence with Deep River | None | • 548 | Randolph County
| Approximately 480 feet upstream of Green Valley Road | None | • 703 | (Unincorporated Areas).
Gabriels Creek Tributary 1 | At the confluence with Gabriels Creek | None | • 551 | Randolph County
| Approximately 1,900 feet upstream of Old Cedar Falls Road | None | • 696 | (Unincorporated Areas).
Gabriels Creek Tributary 2 | At the confluence with Gabriels Creek | None | • 594 | Randolph County
| Approximately 0.7 mile upstream of Henley Country Road | None | • 695 | (Unincorporated Areas).
Hasketts Creek | Approximately 1,000 feet upstream of the confluence with Penwood Branch | • 620 | • 619 | Randolph County (Unincorporated Areas).
| Approximately 1,270 feet upstream of West Presnell Street | None | • 816
Hasketts Creek Tributary 1 | Just downstream of Northwood Drive | None | • 670 | Randolph County
| Approximately 420 feet upstream of McKnight Street | None | • 685 | (Unincorporated Areas).
Hasketts Creek Tributary 2 | At the confluence with Hasketts Creek | None | • 734 | Randolph County
| Approximately 0.6 mile upstream of West Presnell Street | None | • 794 | (Unincorporated Areas).
Lambert Creek | At the confluence with Fork Creek | None | • 453 | Randolph County
| Approximately 0.7 mile upstream of the confluence with Fork Creek | None | • 468 | (Unincorporated Areas).
Little Brush Creek | At the confluence with Brush Creek | None | • 409 | Randolph County
| At the Randolph/Chatham County boundary | None | • 454 | (Unincorporated Areas).
Little Polecat Creek | At the confluence with Polecat Creek | None | • 658 | Randolph County
| Approximately 1,050 feet upstream of dam | None | • 769 | (Unincorporated Areas).
Little Polecat Creek Tributary 1 | At the confluence with Little Polecat Creek | None | • 681 | Randolph County (Unincorporated Areas).
| Approximately 1.4 miles upstream of New Salem Road | None | • 788
Little Polecat Creek Tributary 2 | At the confluence with Little Polecat Creek Tributary 1 | None | • 746 | Randolph County (Unincorporated Areas).
| Approximately 1.0 mile upstream of the confluence with Little Polecat Creek Tributary 1 | None | • 789
Little Polecat Creek Tributary 3 | At the confluence with Little Polecat Creek | None | • 699 | Randolph County (Unincorporated Areas).
| Approximately 0.9 mile upstream Bethel Church Road | None | • 753
Little Polecat Creek Tributary 4 | At the confluence with Little Polecat Creek | None | • 705 | Randolph County (Unincorporated Areas).
| Approximately 740 feet upstream of Hunting Lodge Road | None | • 742
Little Polecat Creek Tributary 5 | At the confluence with Little Polecat Creek Tributary 4 | None | • 709 | Randolph County (Unincorporated Areas).
| Approximately 0.9 mile upstream of Hunting Lodge Road | None | • 763
Mill Creek | At the confluence with Deep River | None | • 431 | Randolph County
| Approximately 1.0 mile upstream of Iron Mountain Road | None | • 619 | (Unincorporated Areas).
Mill Creek Tributary 1 | At the confluence with Mill Creek | None | • 543 | Randolph County
| Approximately 1,500 feet upstream of Woods Stream Lane | None | • 631 | (Unincorporated Areas).
Mill Creek Tributary 2 | At the confluence with Mill Creek | None | • 547 | Randolph County
| Approximately 0.8 mile upstream of the confluence with Mill Creek Tributary 3 | None | • 609 | (Unincorporated Areas).
Mill Creek Tributary 3 | At the confluence with Mill Creek Tributary 2 | None | • 572 | Randolph County (Unincorporated Areas).
| Approximately 1,800 feet upstream of dam | None | • 600
Mill Creek Tributary 4 | At the confluence with Mill Creek | None | • 585 | Randolph County
| Approximately 0.9 mile upstream of Creekway Ridge | None | • 618 | (Unincorporated Areas).
Millstone Creek | At the confluence with Deep River | None | • 429 | Randolph County
| Approximately 0.4 mile upstream of Lee Layne Road | None | • 466 | (Unincorporated Areas).
Mount Pleasant Creek | At the confluence with Sandy Creek | None | • 503 | Randolph County
| Approximately 0.7 mile upstream of Land Estates Drive | None | • 615 | (Unincorporated Areas).
Muddy Creek | At the confluence with Deep River | None | • 638 | Randolph County
| Approximately 200 feet upstream of Verta Avenue | • 843 | • 846 | (Unincorporated Areas).
Muddy Creek East Tributary | At the confluence with Muddy Creek | •721 | •722 | Randolph County (Unincorporated Areas).
| At the Guilford/Randolph County boundary | None | •814
Muddy Creek East Tributary 2 | At the confluence with Muddy Creek East Tributary | •752 | •753 | Randolph County (Unincorporated Areas).
| At the Guilford/Randolph County boundary | None | •771
Muddy Creek East Tributary 3 | At the confluence with Muddy Creek East Tributary 2 | •752 | •753 | Randolph County (Unincorporated Areas).
| At the Guilford/Randolph County boundary | None | •767
Muddy Creek East Tributary 4 | At the confluence with Muddy Creek East Tributary | •757 | •766 | Randolph County (Unincorporated Areas).
| At the Randolph/Guilford County boundary | None | •783
Muddy Creek East Tributary 5 | At the Randolph/Guilford County boundary | None | •771 | Randolph County (Unincorporated Areas).
| At the confluence with Muddy Creek East Tributary 4 | None | •771
Muddy Creek Tributary | At the confluence with Muddy Creek | •717 | •720 | Randolph County (Unincorporated Areas).
| Approximately 0.7 mile upstream of Walnut Tree Lane | None | •756
Muddy Creek West Tributary | At the confluence with Muddy Creek | •785 | •786 | Randolph County (Unincorporated Areas).
| Approximately 160 feet upstream of Playground Road | None | •842
North Prong Creek | At the Randolph/Alamance County boundary | None | •686 | Randolph County (Unincorporated Areas).
| Approximately 1,210 feet upstream of Unnamed Road | None | •712
North Prong Richland Creek | At the confluence with Richland Creek | None | •581 | Randolph County (Unincorporated Areas).
| Approximately 1,300 feet upstream of Staleys Farm Road | None | •694
North Prong Richland Creek Tributary | At the confluence with North Prong Richland Creek | None | •677 | Randolph County (Unincorporated Areas).
| Approximately 370 feet upstream of Tall Pine Street | None | •700
North Prong Rocky River | At the Randolph/Alamance County boundary | None | •677 | Randolph County (Unincorporated Areas).
| Approximately 210 feet upstream of South Cook Street | None | •754
Penwood Branch | Approximately 1,320 feet downstream of East Presnell Street | None | •747 | Randolph County (Unincorporated Areas).
| Approximately 1,690 feet upstream of Glenwood Road | None | •846
Polecat Creek | At the confluence with Deep River | None | •599 | Randolph County (Unincorporated Areas).
| Approximately 0.8 mile upstream of the confluence with Polecat Creek Tributary 7 | None | •702
Polecat Creek Tributary 4 | At the confluence with Polecat Creek | None | •671 | Randolph County (Unincorporated Areas).
| At the Randolph/Guilford County boundary | None | •695
Polecat Creek Tributary 5 | At the confluence with Polecat Creek Tributary 4 | None | •683 | Randolph County (Unincorporated Areas).
| Approximately 0.5 mile upstream of dam | None | •710
Polecat Creek Tributary 6 | At the confluence with Polecat Creek | None | •679 | Randolph County (Unincorporated Areas).
| Approximately 1.3 miles upstream of the confluence with Polecat Creek | None | •736
Polecat Creek Tributary 7 | At the confluence with Polecat Creek | None | •696 | Randolph County (Unincorporated Areas).
| Approximately 0.8 mile upstream of the confluence with Polecat Creek | None | •716
Reed Creek | At the confluence with Deep River | None | •437 | Randolph County (Unincorporated Areas).
| Approximately 0.9 mile upstream of Wright Country Road | None | •619
Reed Creek Tributary 1 | At the confluence with Reed Creek | None | •536 | Randolph County (Unincorporated Areas).
| Approximately 0.8 mile upstream of the confluence with Reed Creek | None | •554
Reed Creek Tributary 2 | At the confluence with Reed Creek | None | •537 | Randolph County (Unincorporated Areas).
| Approximately 0.4 mile upstream of U.S. Highway 64 | None | •562
Reedy Fork | At the confluence with Brush Creek | None | •488 | Randolph County (Unincorporated Areas).
| At the Randolph/Chatham County boundary | None | •498
Richland Creek | At the confluence with Deep River | None | •368 | Randolph County (Unincorporated Areas).
| At the confluence of North and South Prong Richland Creek | None | •581
Rocky River | At the Randolph/Chatham County boundary | None | •644 | Randolph County (Unincorporated Areas).
| Approximately 0.4 mile upstream of dam | None | •736
Rocky River Tributary 2 | At the confluence with Rocky River | None | •664 | Randolph County (Unincorporated Areas).
| Approximately 1.3 miles upstream of Overman Road Dam | None | •716
Rocky River Tributary 3 | At the confluence with Rocky River | None | •682 | Randolph County (Unincorporated Areas).
| Approximately 790 feet upstream of Old U.S. 421 | None | •724 |
Rocky River Tributary 4 | At the confluence with Rocky River | None | •696 | Randolph County (Unincorporated Areas).
| Approximately 1,000 feet upstream of dam | None | •749
Sandy Creek | At the confluence with Deep River | None | •455 | Randolph County (Unincorporated Areas).
| Approximately 1,600 feet upstream of the confluence with Sandy Creek Tributary 11 | None | •730 |
Sandy Creek Tributary 1 | At the confluence with Sandy Creek | None | •558 | Randolph County (Unincorporated Areas).
| Approximately 1.2 miles upstream of the confluence with Sandy Creek | None | •573 |
Sandy Creek Tributary 10 | At the confluence with Sandy Creek | None | •684 | Randolph County (Unincorporated Areas).
| Approximately 1,550 feet upstream of Greeson Country Road | None | •733 |
Sandy Creek Tributary 11 | At the confluence with Sandy Creek | None | •703 | Randolph County (Unincorporated Areas).
| Approximately 900 feet upstream of the confluence with Sandy Creek | None | •718 |
Sandy Creek Tributary 2 | At the confluence with Sandy Creek | None | •576 | Randolph County (Unincorporated Areas).
| Approximately 2.0 miles upstream of U.S. Highway 421 | None | •758 |
Sandy Creek Tributary 3 | At the confluence with Sandy Creek | None | •581 | Randolph County (Unincorporated Areas).
| Approximately 1.8 miles upstream of York Martin Road | None | •735 |
Sandy Creek Tributary 4 | At the confluence with Sandy Creek Tributary 3 | None | •587 | Randolph County (Unincorporated Areas).
| Approximately 1.2 miles upstream of the confluence with Sandy Creek | None | •686 |
Sandy Creek Tributary 5 | At the confluence with Sandy Creek Tributary 3 | None | •596 | Randolph County (Unincorporated Areas).
| Approximately 1.5 miles upstream of Bunton Swaim Road | None | •733 |
Sandy Creek Tributary 6 | At the confluence with Sandy Creek Tributary 5 | None | •599 | Randolph County (Unincorporated Areas).
| Approximately 1,320 feet upstream of dam | None | •724 |
Sandy Creek Tributary 7 | At the confluence with Sandy Creek | None | •581 | Randolph County (Unincorporated Areas).
| Approximately 1.7 miles upstream of Starmount Road | None | •652 |
Sandy Creek Tributary 8 | At the confluence with Sandy Creek | None | •607 | Randolph County (Unincorporated Areas).
| Approximately 2.2 miles upstream of Randolph Church Road | None | •741 |
Sandy Creek Tributary 9 | At the confluence with Sandy Creek | None | •622 | Randolph County (Unincorporated Areas).
| Approximately 1.4 miles upstream of Hollow Hill Road | None | •708 |
Simmons Branch | At the confluence with Deep River | None | •634 | Randolph County (Unincorporated Areas).
| Approximately 1,550 feet upstream of Old Walker Mill Road Extension | None | •652 |
South Prong Richland Creek | At the confluence with Richland Creek | None | •581 | Randolph County (Unincorporated Areas).
| Approximately 0.5 mile upstream of Ross Harris Road | None | •658 |
South Prong Stinking Quarter Creek | At the Randolph/Guilford County boundary | None | •627 | Randolph County (Unincorporated Areas).
| Approximately 0.5 mile upstream of Redbud Lane | None | •755 |
Stinking Quarter Creek Tributary 3 | At the Randolph/Guilford County boundary | None | •627 | Randolph County (Unincorporated Areas).
| Approximately 1.0 mile upstream of Richland Church Road | None | •681 |
Taylor Branch | At the confluence with Muddy Creek | None | •692 | Randolph County (Unincorporated Areas).
| Approximately 1,100 feet upstream of Tuttle Road | None | •739 |
Vestal Creek | At the confluence with Richland Creek | None | •565 | Randolph County (Unincorporated Areas).
| At the confluence with Vestal Creek Tributary 3 | None | •651 |
Vestal Creek Tributary 3 | At the confluence of Vestal Creek Tributary 2 | None | •662 | Randolph County (Unincorporated Areas).
| Approximately 0.7 mile upstream of Browers Chapel Road | None | •743 |
City of Archdale
Maps are available for inspection at Archdale City Hall, 307 Balfour Drive, Archdale, North Carolina.
Send comments to The Honorable Bert Lance Stone, Mayor of the City of Archdale, P.O. Box 14068, Archdale, North Carolina 27263.
Send comments to The Honorable David Jarrell, Mayor of the City of Asheboro, P.O. Box 1106, Asheboro, North Carolina 27204.
Town of Franklinville
Maps are available for inspection at the Franklinville City Hall, 163 West Main Street, Franklinville, North Carolina.
Send comments to The Honorable L. McKay Whatley, Mayor of the Town of Franklinville, 163 West Main Street, Franklinville, North Carolina 27248.
Town of Liberty
Maps are available for inspection at the Liberty Town Hall, 239 South Fayetteville Street, Liberty, North Carolina.
Send comments to The Honorable John Stanley, Mayor of the Town of Liberty, 239 South Fayetteville Street, Liberty, North Carolina 27298.
Town of Ramseur
Maps are available for inspection at the Ramseur Town Hall, 724 Liberty Street, Ramseur, North Carolina.
Send comments to The Honorable Hampton L. Spivey, Mayor of the Town of Ramseur, P.O. Box 545, Ramseur, North Carolina 27316.
City of Randleman
Maps are available for inspection at the Randleman City Hall, 101 Hilliary Street, Randleman, North Carolina.
Send comments to The Honorable Bruce Moore, Mayor of the City of Randleman, 101 Hilliary Street, Randleman, North Carolina 27317.
Unincorporated Areas of Randolph County
Maps are available for inspection at the Randolph County Planning Department, 725 McDowell Road, Asheboro, North Carolina.
Send comments to Mr. William Willis, Randolph County Manager, P.O. Box 4728, Asheboro, North Carolina 27204-4728.
Town of Seagrove
Maps are available for inspection at the Seagrove Town Hall, 122 East Main Street, Seagrove, North Carolina.
Send comments to The Honorable Michael T. Walker, Mayor of the Town of Seagrove, 122 East Main Street, Seagrove, North Carolina 27341.

(Catalog of Federal Domestic Assistance No. 83.100, “Flood Insurance.”)
Dated: August 23, 2005.
David I. Maurstad,
Acting Director, Mitigation Division, Emergency Preparedness and Response Directorate.

[FR Doc. 05-17629 Filed 9-2-05; 8:45 am]

BILLING CODE 9110-12-P